DEPARTMENT OF DEFENSE

Office of the Secretary

Membership of the Performance Review Board

AGENCY: Defense Finance and Accounting Service, DoD

ACTION: None.

SUMMARY: This notice announces the appointment of the members of the Performance Review Board (PRB) of the Defense Finance and Accounting Service (DFAS). The publication of PRB membership is required by 5 U.S.C. 4314(c)(4).

The PRB provides fair and impartial review of Senior Executive Service performance appraisals and makes recommendations regarding performance ratings and performance awards to the Director, DFAS.

EFFECTIVE DATES: August 14, 2002.

FOR FURTHER INFORMATION CONTACT: Jerry Hovey, Human Capital and Staffing Division, Human Resources Directorate, Defense Finance and Accounting Service, Arlington, Virginia, (703) 607-3829.

SUPPLEMENTARY INFORMATION: In accordance with 5 U.S.C. 4314(c)(4), the following executives are appointed to the DFAS PRB: Rear Admiral Mark A. Young, Susan J. Grant, Zack E. Gaddy, James J. Cornell.

Executives listed will serve a 1-year renewable term, effective August 14, 2002.

Dated: July 30, 2002.
Patricia L. Toppings,
Alternate OSD Federal Register Liaison Officer, Department of Defense.

[FR Doc. 02-19607 Filed 8-2-02; 8:45 am]

BILLING CODE 5001-08-M